DEPARTMENT OF JUSTICE

Notice of Lodging of Consent Decree Under Comprehensive Environmental Response, Compensation and Liability Act

Notice is hereby given that on March 22, 2007, a proposed Consent Decree in United States v. PSD Queens Drive LP, C.A. No. 2:07-cv-01137-GP (E.D.Pa.), was lodged with the United States District Court for the Eastern Court for the Eastern District of Pennsylvania.

The Consent Decree resolves the United States' claims against PSD Queens Drive LP and others with respect to response costs incurred, pursuant to Section 107 of the Comprehensive Environmental Response, Compensation and Liability Act (“CERCLA”), 42 U.S.C. 9607. These costs were incurred as a result of response actions taken by the U.S. Environmental Protection Agency at the Stanley Kessler Superfund Site, located in Montgomery County, Pennsylvania. The Consent Decree also resolves the United States' claim regarding continued implementation of a long-term groundwater remedy at the Site.

Under the Consent Decree, defendants will pay the United States $75,000 in reimbursement of response costs incurred in connection with the Site, and will pay future response costs incurred by the United States. Further, defendants have agreed to continue implementation of a long-term groundwater remedy as described in the Consent Decree.

The Department of Justice will receive for a period of thirty (30) days from the date of this publication comments relating to the Consent Decree. Comments should be addressed to the Acting Assistant Attorney General, Environment and Natural Resources Division, and either e-mailed to pubcomment-ees.enrd@usdoj.gov, or mailed to P.O. Box 7611, U.S. Department of Justice, Washington, DC 20044-7611, and should refer to United States v. PSD Queens Drive LP, et al., DOJ Reference No. 90-7-1-106/1. Commenters may request an opportunity for a public meeting in the affected area, in accordance with Section 7003(b) of RCRA, 42 U.S.C. 6973(d).

The Consent Decree may be examined at the Office of the United States Attorney, 615 Chestnut Street, Suite 1250, Philadelphia, Pennsylvania 19106, and at U.S. EPA Region 3, 1650 Arch Street, Philadelphia, Pennsylvania 19103. During the public comment period, the Consent Decree may also be examined on the following Department of Justice Web site: http://www.usjdoj.gov/enrd/Consent Decree.html. A copy of the Consent Decree may also be obtained by mail from the Consent Decree Library, P.O. Box 7611, U.S. Department of Justice, Washington, DC 20044-7611, or by faxing or e-mailing a request to Tonia Fleetwood (tonia.fleetwood@usdjo.gov), fax no. (202) 514-0097, phone confirmation number (202) 514-1547. In requesting a copy of the Consent Decree, without 3 Appendices, from the Consent Decree Library, please enclose a check in the amount of $25.00 (25 cents per page production costs), payable to the U.S. Treasury or, if by e-mail or fax, forward a check in that amount to the Consent Decree Library at the stated address. In requesting a copy, with 3 Appendices, please enclose a check in the amount of $52.25 (25 cents per page reproduction cost) payable to the U.S. Treasury.

Robert D. Brook,
Assistant Chief, Environmental Enforcement Section, Environment and Natural Resources Division.

[FR Doc. 07-1657 Filed 4-4-07; 8:45am]

BILLING CODE 4410-15-M